DEPARTMENT OF ENERGY

Federal Energy Regulatory Commission

[Docket No. EL00-110-000, et al.]

Dominion Nuclear Connecticut, Inc., et al.; Electric Rate and Corporate Regulation Filings

September 14, 2000.

Take notice that the following filings have been made with the Commission:

1. Dominion Nuclear Connecticut, Inc.

[Docket No. EL00-110-000]

Take notice that on September 11, 2000, Dominion Nuclear Connecticut, Inc. filed with the Commission its application requesting waiver of the open access transmission tariff requirements of Order No. 888 and Section 35.28 of the Commission's regulations and the OASIS and Standards of Conduct requirements of Order No. 889 and Part 37 of the Commission's regulations.

Comment date: October 11, 2000, in accordance with Standard Paragraph E at the end of this notice.

2. Dayton Power and Light Company

[Docket No. OA97-625-002]

Take notice that on September 12, 2000, Dayton Power and Light (DP&L), tendered for filing a Compliance Report pursuant to a Commission Order dated July 14, 2000 in above-captioned docket.

Comment date: October 16, 2000, in accordance with Standard Paragraph E at the end of this notice.

3. Louisville Gas and Electric Company/Kentucky Utilities Company

[Docket No. ER00-3624-000]

Take notice that on September 12, 2000, Louisville Gas and Electric Company (LG&E)/Kentucky Utilities (KU) (hereinafter Companies), tendered for filing executed transmission service agreement with Alliance Energy Services Partnership. The agreement allows Alliance Energy Services Partnership to take firm point-to-point transmission service from LG&E/KU.

Comment date: October 3, 2000, in accordance with Standard Paragraph E at the end of this notice.

4. Louisville Gas and Electric Company/Kentucky Utilities Company

[Docket No. ER00-3625-000]

Take notice that on September 12, 2000, Louisville Gas and Electric Company (LG&E)/Kentucky Utilities (KU) (hereinafter Companies), tendered for filing executed transmission service agreement with PPL EnergyPlus, LLC. The agreement allows PPL EnergyPlus, LLC to take firm point-to-point transmission service from LG&E/KU.

Comment date: October 3, 2000, in accordance with Standard Paragraph E at the end of this notice.

5. Louisville Gas and Electric Company/Kentucky Utilities Company

[Docket No. ER00-3626-000]

Take notice that on September 12, 2000, Louisville Gas and Electric Company (LG&E)/Kentucky Utilities (KU) (hereinafter Companies), tendered for filing executed transmission service agreement with H.Q. Energy Services (U.S.) Inc. The agreement allows H.Q. Energy Services (U.S.) Inc., to take firm point-to-point transmission service from LG&E/KU.

Comment date: October 3, 2000, in accordance with Standard Paragraph E at the end of this notice.

6. Louisville Gas and Electric Company/Kentucky Utilities Company

[Docket No. ER00-3627-000]

Take notice that on September 12, 2000, Louisville Gas and Electric Company (LG&E)/Kentucky Utilities (KU) (hereinafter Companies), tendered for filing executed transmission service agreement with Alliance Energy Services Partnership. The agreement allows Alliance Energy Services Partnership to take non-firm point-to-point transmission service from LG&E/KU.

Comment date: October 3, 2000, in accordance with Standard Paragraph E at the end of this notice.

7. Louisville Gas and Electric Company/Kentucky Utilities Company

[Docket No. ER00-3628-000]

Take notice that on September 12, 2000, Louisville Gas and Electric Company (LG&E)/Kentucky Utilities (KU) (hereinafter Companies), tendered for filing executed transmission service agreement with MidAmerican Energy Company. The agreement allows MidAmerican Energy Company to take firm point-to-point transmission service from LG&E/KU.

Comment date: October 3, 2000, in accordance with Standard Paragraph E at the end of this notice.

8. Louisville Gas and Electric Company/Kentucky Utilities Company

[Docket No. ER00-3629-000]

Take notice that on September 12, 2000, Louisville Gas and Electric Company (LG&E)/Kentucky Utilities (KU) (hereinafter Companies), tendered for filing executed transmission service agreement with H.Q. Energy Services (U.S.) Inc. The agreement allows H.Q. Energy Services (U.S.) Inc., to take non-firm point-to-point transmission service from LG&E/KU.

Comment date: October 3, 2000, in accordance with Standard Paragraph E at the end of this notice.

9. Louisville Gas and Electric Company/Kentucky Utilities Company

[Docket No. ER00-3630-000]

Take notice that on September 12, 2000, Louisville Gas and Electric Company (LG&E)/Kentucky Utilities (KU) (hereinafter Companies), tendered for filing executed transmission service agreement with MidAmerican Energy Company. The agreement allows MidAmerican Energy Company to take non-firm point-to-point transmission service from LG&E/KU.

Comment date: October 3, 2000, in accordance with Standard Paragraph E at the end of this notice.

10. Arizona Public Service Company

[Docket No. ER00-3631-000]

Take notice that on September 12, 2000, Arizona Public Service Company (APS), tendered for filing Service Agreements to provide Long-Term Firm Point-to-Point Transmission Service to Reliant Energy Desert Basin, LLC under APS' Open Access Transmission Tariff.

A copy of this filing has been served Reliant Energy Desert Basin, LLC and the Arizona Corporation Commission.

Comment date: October 3, 2000, in accordance with Standard Paragraph E at the end of this notice.

11. Southern California Edison Company

[Docket No. ER00-3632-000]

Take notice that on September 12, 2000, Southern California Edison Company (SCE) tendered for filing notification that effective May 1, 2000, Rate Schedule FERC Nos. 394, 394.1, 394.2, 394.3 and 394.4, effective March 31, 1998, and filed with the Federal Energy Regulatory Commission by Southern California Edison Company are to be canceled.

Notice of the proposed cancellation has been served upon the Public Utilities Commission of the State of California and the City of Riverside, California.

Comment date: October 3, 2000, in accordance with Standard Paragraph E at the end of this notice.

12. American Electric Power Service Company

[Docket No. ER00-3633-000]

Take notice that on September 12, 2000, American Electric Power Service Corporation, (AEPSC), the designated agent for Central Power and Light Company (CPL) and West Texas Utilities Company (WTU), operating utility subsidiaries of American Electric Power Company, Inc., submitted for filing a Service Agreement with Gregory Power Partners, L.P. (Gregory) for ERCOT Regional Transmission Service under the Open Access Transmission Service Tariff (OATT) under which CPL and WTU offer transmission service.

AEPSC requests that the Service Agreement be accepted to become effective as of July 6, 2000.

AEPSC states that a copy of the filing was served on Gregory and the Public Utility Commission of Texas.

Comment date: October 3, 2000, in accordance with Standard Paragraph E at the end of this notice.

13. MidAmerican Energy Company

[Docket No. ER00-3634-000]

Take notice that on September 12, 2000, MidAmerican Energy Company (MidAmerican), 666 Grand Avenue, 2900 Ruan Center, Des Moines, Iowa 50309 tendered for filing a change to its Open Access Transmission Tariff (OATT) consisting of First Revised Volume No. 8, superseding Original Volume No. 8.

MidAmerican states that the change re-designates MidAmerican's OATT with a revised volume number for the purpose of complying with Order No. 614 which states that “if a change is proposed in an existing tariff or rate schedule, the entire tariff or rate schedule must be re-filed according to the new system.” MidAmerican further states that it is not proposing any substantive change to its OATT in this filing and that the re-filing of the OATT with the revised volume number will obviate the need for a re-filing of the entire OATT when a substantive change is proposed by MidAmerican in the future.

MidAmerican proposes that First Revised Volume No. 8 become effective on October 1, 2000 and requests a waiver of the Commission's notice requirements.

The proposed change has been mailed to all Transmission Customers having service agreements under the OATT, the Iowa Utilities Board and the Illinois Commission, the South Dakota Public Service Commission.

Comment date: October 3, 2000, in accordance with Standard Paragraph E at the end of this notice.

14. Central Hudson Gas & Electric Corporation

[Docket No. ER00-3661-000]

Take notice that on September 11, 2000, Central Hudson Gas and Electric Corporation (Central Hudson), tendered for filing its development of actual costs for 1998 related to transmission service provided from the Roseton Generating Plant to Consolidated Edison Company of New York, Inc. (Con Edison) and Niagara Mohawk Power Corporation (Niagara Mohawk) in accordance with the provisions of its Rate Schedule FERC No. 42.

The actual costs for 1998 amounted to $0.9852 per MW.-day to Con Edison and $3.2053 per MW.-day to Niagara Mohawk and are the basis on which charges for 1999 have been estimated.

Central Hudson requests waiver on the notice requirements set forth in 18 CFR 35.11 of the Regulations to permit charges to become effective January 1, 1999 as agreed by the parties.

Central Hudson states that a copy of its filing was served on Con Edison, Niagara Mohawk and the State of New York Public Service Commission.

Comment date: October 2, 2000, in accordance with Standard Paragraph E at the end of this notice.

15. Northern States Power Company (Minnesota Company) Northern States Power Company (Wisconsin Company)

[Docket No. ER00-3663-000]

Take notice that on September 12, 2000, Northern States Power Company (Minnesota) and Northern States Power Company (Wisconsin) (collectively known as NSP), tendered for filing a Short-Term Market-Based Electric Service Agreement between NSP and Madison Gas & Electric Company (Customer).

NSP requests that this Short-Term Market-Based Electric Service Agreement be made effective on August 14, 2000.

Comment date: October 3, 2000, in accordance with Standard Paragraph E at the end of this notice.

16. American Transmission Systems, Inc.

[Docket No. ER00-3667-000]

Take notice that on September 11, 2000, American Transmission Systems, Inc. (ATSI), tendered for filing a replacement Open Access Transmission Tariff (FERC Electric Tariff, Second Revised Volume No. 1) to conform to the formatting requirements of Order No. 614. In addition, ATSI re-submitted Supplement No. 2 to its Rate Schedule FERC No. 2 to replace a form of ground lease agreement with the actual, executed agreements, and to make certain changes of a housekeeping nature. ATSI states that in all other respects, the tariff and the rate schedule supplement are identical to those approved by the Commission in Docket No. ER99-2647.

ATSI states further that it has served the filing on all parties to the proceeding.

Comment date: October 2, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-24272 Filed 9-20-00; 8:45 am]

BILLING CODE 6717-01-P